DEPARTMENT OF LABOR

Bureau of Labor Statistics

Comment Request

ACTION: Notice of solicitation of comments.

SUMMARY: The Department of Labor through the Bureau of Labor Statistics (BLS) is responsible for the development and publication of occupational employment projections and related career information, including the education or training requirements for detailed occupations. These requirements are identified and estimated using one of two different systems developed by the Employment Projections program and are published in the Occupational Projections and Training Data bulletin and in a searchable database on the Employment Projections web site. Presenting data using two different systems has led to some confusion among customers of the Employment Projections program about which system to use and how to use them. BLS is currently soliciting comments on a proposal to revise the two systems into one integrated system.

DATES: Written comments must be submitted to the office listed in the ADDRESSES section of this notice on or before December 18, 2008.

ADDRESSES: Send comments to Roger Moncarz, Office of Occupational Statistics and Employment Projections, Bureau of Labor Statistics, Room 2135, 2 Massachusetts Avenue, NE., Washington, DC 20212 or by e-mail to: educfeedback@bls.gov.

FOR FURTHER INFORMATION CONTACT: Roger Moncarz, Office of Occupational Statistics and Employment Projections, Bureau of Labor Statistics, telephone number 202-691-5694, or by e-mail at educfeedback@bls.gov.

SUPPLEMENTARY INFORMATION:

I. Background

The Department of Labor through the Bureau of Labor Statistics (BLS) is responsible for the development and publication of occupational employment projections and related career information, including the education or training requirements for detailed occupations. These requirements are identified and estimated using one of two different systems developed by the Employment Projections program: the “education or training category” system and the “educational attainment cluster” system. Results from both systems are published in the Occupational Projections and Training Data and in a searchable database on the Employment Projections web site. Presenting data using two different systems has led to some confusion among customers of the Employment Projections program about which system to use and how to use them. BLS is currently soliciting comments on a proposal to revise the two systems into one integrated system.

II. Current Action

BLS proposes modifications to both the education or training category and the educational attainment cluster systems to more fully integrate the two. The old systems assigned an education cluster and/or an education, work experience, or on-the-job training category to each occupation. The modifications include eliminating the cluster data and rating each occupation on all three categories: education, on-the-job training, and work experience.

Access the detailed description of the proposed modification to the Employment Projections program education and training classification systems and examples of the new system at the following internet address: http://www.bls.gov/emp/edunotice.htm.

III. Desired Focus of Comments

Comments and recommendations are requested from the public on the following aspects of the proposed education and training system:

• The clarity of the new system of assigning an education, on-the-job training, and work experience category to each occupation.

• The clarity of the proposed education categories.

• The suitability of the new system to meet the needs of customers.

• The understanding of how the new system is to be used.

• The usefulness of the new integrated system compared to the old ones.

Signed at Washington, DC, this 12th day of November 2008.
Cathy Kazanowski,
Chief, Division of Management Systems, Bureau of Labor Statistics.

[FR Doc. E8-27330 Filed 11-17-08; 8:45 am]

BILLING CODE 4510-24-P